DEPARTMENT OF TRANSPORTATION

Federal Aviation Administration

14 CFR Part 39

[Docket No. FAA-2010-1084; Directorate Identifier 2010-CE-056-AD; Amendment 39-17257; AD 2012-23-01]

RIN 2120-AA64

Airworthiness Directives; Cessna Aircraft Company Airplanes

AGENCY: Federal Aviation Administration (FAA), DOT.

ACTION: Final rule.

SUMMARY: We are adopting a new airworthiness directive (AD) for all Cessna Aircraft Company (Cessna) Model 402C airplanes modified by Supplemental Type Certificate (STC) SA927NW and Model 414A airplanes modified by STC SA892NW. This AD was prompted by report of a Cessna Model 414A airplane modified by STC SA892NW that experienced an asymmetrical flap condition causing an uncommanded roll when the pilot set the flaps to the approach position. We are issuing this AD to prevent failure of the flap system, which could result in an asymmetrical flap condition. This condition could result in loss of control.

DATES: This AD is effective December 26, 2012.

The Director of the Federal Register approved the incorporation by reference of a certain publication listed in the AD as of December 26, 2012.

ADDRESSES: For service information identified in this AD, contact Sierra Industries, Ltd, 122 Howard Langford Drive, Uvalde, Texas 78801; telephone: 888-835-9377; email: chip@sijet.com; Internet: http://www.sijet.com/r-stol-high. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Michael A. Heusser, Program Manager, Fort Worth Airplane Certification Office, FAA, 2601 Meacham Blvd., Fort Worth, Texas 76137; phone: (817) 222-5038; fax: (817) 222-5160; email: michael.a.heusser@faa.gov.

SUPPLEMENTARY INFORMATION:

Discussion

We issued a supplemental notice of proposed rulemaking (SNPRM) to amend 14 CFR part 39 to include an airworthiness directive (AD) that would apply to the specified products. That SNPRM published in the Federal Register on August 23, 2012 (77 FR 50954). The original NPRM (75 FR 66700, October 29, 2010) proposed to require a complete inspection of the flap system and modification of the flap control system. The SNPRM (77 FR 50954, August 23, 2012) proposed to incorporate additional service information that addresses proper rigging procedures and corrective actions following additional inspection procedures.

Comments

We gave the public the opportunity to participate in developing this AD. We received no comments on the SNPRM (77 FR 50954, August 23, 2012) or on the determination of the cost to the public.

Conclusion

We reviewed the relevant data and determined that air safety and the public interest require adopting the AD as proposed except for minor editorial changes. We have determined that these minor changes:

• Are consistent with the intent that was proposed in the SNPRM (77 FR 50954, August 23, 2012) for correcting the unsafe condition; and

• Do not add any additional burden upon the public than was already proposed in the SNPRM.

Costs of Compliance

We estimate that this proposed AD affects 150 airplanes of U.S. registry.

We estimate the following costs to comply with this AD:

Estimated Costs
Action | Labor cost | Parts cost | Cost per product | Cost on U.S. operators
Inspect the flap system and modify/replace the flap preselect control cable | 25 work-hours × $85 per hour = $2,125 | $1,000 | $3,125 | $468,750

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-23-01 Cessna Aircraft Company: Amendment 39-17257; Docket No. FAA-2010-1084; Directorate Identifier 2010-CE-056-AD.

(a) Effective Date

This AD is effective December 26, 2012.

(b) Affected ADs

None.

(c) Applicability

This AD applies to Cessna Aircraft Company (Cessna) Model 402C airplanes modified by Supplemental Type Certificate (STC) SA927NW and Model 414A airplanes modified by STC SA892NW, all serial numbers, that are certificated in any category.

(d) Subject

Joint Aircraft System Component (JASC)/Air Transport Association (ATA) of America Code 57, Wings.

(e) Unsafe Condition

This AD was prompted by a report of a Cessna Model 414A airplane modified by STC SA892NW that experienced an asymmetrical flap condition causing an uncommanded roll when the pilot set the flaps to the approach position. We are issuing this AD to prevent failure of the flap system, which could result in an asymmetrical flap condition. This condition could result in loss of control.

(f) Compliance

Comply with this AD within the compliance times specified, unless already done.

(g) Inspection of the Flap Control System

Within 60 days after December 26, 2012 (the effective date of this AD), do a complete inspection of the flap control system following the Inspection Instructions section of Sierra Industries, Ltd. Service Bulletin SI09-82 Series-1, Rev. A, dated June 12, 2012.

(h) Modification of the Flap Control System

(1) If any damage to the flap bellcrank or bellcrank mounting structure is found in the inspection required in paragraph (g) of this AD, before further flight, repair the damage and modify the flap control system following the Accomplishment Instructions of Sierra Industries, Ltd. Service Bulletin SI09-82 Series-1, Rev. A, dated June 12, 2012.

(2) If no damage to the flap bellcrank or bellcrank mounting structure is found in the inspection required in paragraph (g) of this AD, within 180 days after December 26, 2012 (the effective date of this AD), modify the flap control system following the Accomplishment Instructions of Sierra Industries, Ltd. Service Bulletin SI09-82 Series-1, Rev. A, dated June 12, 2012.

(i) Instructions for Continued Airworthiness

Within 7 months after December 26, 2012 (the effective date of this AD), or during your next annual inspection, whichever occurs earlier, incorporate Sierra Industries, Ltd. Instructions for Continued Airworthiness, 82-1, Issue 1, dated June 12, 2012, into your FAA-approved maintenance program.

(j) Alternative Methods of Compliance (AMOCs)

(1) The Manager, Fort Worth Airplane Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, contact Michael A. Heusser, Program Manager, Fort Worth ACO, FAA, 2601 Meacham Blvd., Fort Worth, Texas 76137; phone: (817) 222-5038; fax: (817) 222-5160; email: michael.a.heusser@faa.gov.

(2) For service information identified in this AD, contact Sierra Industries, Ltd., 122 Howard Langford Drive, Uvalde, Texas 78801; telephone: 888-835-9377; email: chip@sijet.com; Internet: http://www.sijet.com/r-stol-high. You may review copies of the service information at the FAA, Small Airplane Directorate, 901 Locust, Kansas City, Missouri 64106. For information on the availability of this material at the FAA, call 816-329-4148.

(l) Material Incorporated by Reference

(1) The Director of the Federal Register approved the incorporation by reference (IBR) of the service information listed in this paragraph under 5 U.S.C. 552(a) and 1 CFR part 51.

(2) You must use the service information as applicable to do the actions required by this AD, unless the AD specifies otherwise.

(i) Sierra Industries, Ltd. Service Bulletin SI09-82 Series-1, Rev. A, dated June 12, 2012.

(ii) Sierra Industries, Ltd. Instructions for Continued Airworthiness, 82-1, Issue 1, dated June 12, 2012.

(3) For Sierra Industries, Ltd. service information identified in this AD, contact Sierra Industries, Ltd., 122 Howard Langford Drive, Uvalde, Texas 78801; telephone: 888-835-9377; email: chip@sijet.com; Internet: http://www.sijet.com/r-stol-high.

(4) You may view this service information at FAA, Small Airplane Directorate, 901 Locust, Kansas City, Missouri 64106. For information on the availability of this material at the FAA, call 816-329-4148.

(5) You may view this service information that is incorporated by reference at the National Archives and Records Administration (NARA). For information on the availability of this material at NARA, call 202-741-6030, or go to: http://www.archives.gov/federal-register/cfr/ibr-locations.html.

Issued in Kansas City, Missouri, on November 5, 2012.
Earl Lawrence,
Manager, Small Airplane Directorate, Aircraft Certification Service.

[FR Doc. 2012-27456 Filed 11-20-12; 8:45 am]

BILLING CODE 4910-13-P